DEPARTMENT OF TRANSPORTATION

Federal Aviation Administration

14 CFR Part 39

[Docket No. 2003-NE-38-AD; Amendment 39-13736; AD 2004-15-02]

RIN 2120-AA64

Airworthiness Directives; Rolls-Royce plc RB211 Trent 800 Series Turbofan Engines

Correction

In rule document 04-16548 beginning on page 44925 in the issue of Wednesday, July 28, 2004, make the following correction:

§39.13 [Corrected]

On page 44927, in the first column, in § 39.13, after paragraph (h)(2) add the folowing equation:

[FR Doc. C4-16548 Filed 8-11-04; 8:45 am]

BILLING CODE 1505-01-D

DEPARTMENT OF THE TREASURY

Internal Revenue Service

26 CFR Part 1

[REG-150562-03]

RIN 1545-BC67

Section 1045 Application to Partnerships

Correction

In proposed rule document 04-15964 beginning on page 42370 in the issue of Thursday, July 15, 2004, make the following correction:

§1.1045-1 [Corrected]

1. On page 42376, in the third column, in paragraph (f), in the last line, “§601.601(d)(2)(ii)(b)” should read, “§601.601(d)(2)(ii)(b)”.

2. On page 42377, in the second column, in Example 5., in the third line, “Example 4” should read, “Example 4”.

3. On the same page, in the second column, in Example 7., in the fourth line, “Example 4” should read, “Example 4”.

[FR Doc. C4-15964 Filed 8-11-04; 8:45 am]

BILLING CODE 1505-01-D